DEPARTMENT OF LABOR

Employment and Training Administration

[TA-W-82,568; TA-W-82,568A; TA-W-82,537B]

Amended Certification Regarding Eligibility To Apply for Worker Adjustment Assistance

Homeward Residential, Inc. a Subsidiary of Ocwen Loan Servicing, LLC Including On-Site Leased Workers from Staffmark Staffing Including Workers whose Unemployment Insurance (UI) Wages are Reported through American Mortgage Servicing, Inc., Power Reo Management Services, Inc., and Stratus Asset Management Coppell, Texas; Homeward Residential, Inc. a Subsidiary of Ocwen Loan Servicing, LLC Including On-Site Leased Workers from Staffmark Staffing Including Workers whose Unemployment Insurance (UI) Wages are Reported Through American Mortgage Servicing, Inc., Power Reo Management Services, Inc., and Stratus Asset Management Addison, Texas; Homeward Residential, Inc. a Subsidiary of Ocwen Loan Servicing, LLC Including On-Site Leased Workers from Staffmark Staffing Including Workers whose Unemployment Insurance (UI) Wages are Reported Through American Mortgage Servicing, Inc., Power Reo Management Services, Inc., and Stratus Asset Management Jacksonville, Florida

In accordance with Section 223 of the Trade Act of 1974, as amended (“Act”), 19 U.S.C. 2273, the Department of Labor issued a Certification of Eligibility to Apply for Worker Adjustment Assistance on April 24, 2013, applicable to workers of Homeward Residential, Inc., a subsidiary of Ocwen Loan Servicing, LLC, including on-site leased workers from Staffmark Staffing, Coppell, Texas (TA-W-82,568), Addison, Texas (TA-W-82,568A) and Jacksonville, Florida (TA-W-82,568B). On June 21, 2013, the Department issued an amended certification to include workers whose unemployment insurance wages were reported under American Home Mortgage Servicing, Inc.

At the request of the State agency, the Department reviewed the certification for workers of the subject firm.

New information shows that workers separated from employment at the Coppell, Texas, Addison, Texas and/or Jacksonville, Florida locations of Homeward Residential, Inc. had their unemployment insurance (UI) wages paid under the names Power REO Management Services, Inc. and/or Stratus Asset Management.

Accordingly, the Department is amending this certification to include workers of the subject firm whose UI wages are reported through Power REO Management Services, Inc. and/or Stratus Asset Management.

The amended notice applicable to TA-W-82,568, TA-W-82,568A and TA-W-82,568B are hereby issued as follows:

“All workers from Homeward Residential, Inc., a subsidiary of Ocwen Loan Servicing, LLC, including on-site leased workers from Staffmark Staffing, including workers whose unemployment insurance (UI) wages are reported through American Mortgage Servicing, Inc., Power REO Management Services, Inc., and Stratus Asset Management, Coppell, Texas (TA-W-82,568); Homeward Residential, Inc., a subsidiary of Ocwen Loan Servicing, LLC, including on-site leased workers from Staffmark Staffing, including workers whose unemployment insurance (UI) wages are reported through American Mortgage Servicing, Inc., Power REO Management Services, Inc., and Stratus Asset Management, Addison, Texas (TA-W-82,568A), and Homeward Residential, Inc., a subsidiary of Ocwen Loan Servicing, LLC, including on-site leased workers from Staffmark Staffing, including workers whose unemployment insurance (UI) wages are reported through American Mortgage Servicing, Inc., Power REO Management Services, Inc., and Stratus Asset Management, Jacksonville, Florida (TA-W-82,568B), who became totally or partially separated from employment on or after March 15, 2012, through April 24, 2015, and all workers in the group threatened with total or partial separation from employment on date of certification through two years from the date of certification, are eligible to apply for adjustment assistance under Chapter 2 of Title II of the Trade Act of 1974, as amended.”

Signed at Washington, DC this 14th day of August 2013.
Del Min Amy Chen,
Certifying Officer, Office of Trade Adjustment Assistance.

[FR Doc. 2013-20816 Filed 8-26-13; 8:45 am]

BILLING CODE 4510-FN-P